ENVIRONMENTAL PROTECTION AGENCY

40 CFR Part 52

[EPA-R01-OAR-2016-0626; A-1-FRL-9969-56-Region 1]

Air Plan Approval; Vermont; Regional Haze Five-Year Progress Report; Withdrawal of Direct Final Rule

AGENCY: Environmental Protection Agency (EPA).

ACTION: Withdrawal of direct final rule.

SUMMARY: Due to the receipt of an adverse comment, the Environmental Protection Agency (EPA) is withdrawing the August 16, 2017, direct final rule approving a State Implementation Plan (SIP) revision submitted by the State of Vermont. Vermont's SIP revision addresses requirements of the Clean Air Act (CAA) and EPA's rules that require states to submit periodic reports describing the progress toward reasonable progress goals (RPGs) established for regional haze and a determination of adequacy of the State's existing regional haze SIP. This action is being taken in accordance with the Clean Air Act.

DATES: The direct final rule published on August 16, 2017 (82 FR 38834), is withdrawn effective October 13, 2017.

FOR FURTHER INFORMATION CONTACT: Anne K. McWilliams, Air Quality Planning Unit, U.S. Environmental Protection Agency, New England Regional Office, 5 Post Office Square—Suite 100, (Mail code OEP05-2), Boston, MA 02109—3912, telephone (617) 918-1697, facsimile (617) 918-0697, email mcwilliams.anne@epa.gov.

SUPPLEMENTARY INFORMATION: In the direct final rule, EPA stated that if adverse comments were submitted by September 15, 2017, the rule would be withdrawn and not take effect. EPA received an adverse comment prior to the close of the comment period and, therefore, is withdrawing the direct final rule. EPA will address the comment in a subsequent final action based upon the proposed rule also published on August 16, 2017 (82 FR 38864). EPA will not institute a second comment period on this action.

Dated: September 27, 2017.
Deborah A. Szaro,
Acting Regional Administrator, EPA New England.

PART 52—APPROVAL AND PROMULGATION OF IMPLEMENTATION PLANS

Accordingly, the amendments to 40 CFR 52.2370 published in the Federal Register on August 16, 2017 (82 FR 38834), on page 38838 are withdrawn effective October 13, 2017.

[FR Doc. 2017-22123 Filed 10-12-17; 8:45 am]

BILLING CODE 6560-50-P